DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 65 FR 70916, dated November 28, 2000) is amended to revise the mission statement for the Management Analysis and Services Office, Office of Program Services, to (1) reflect responsibility for coordinating CDC's special events activities and (2) realign internal subordinate functions.

Section C-B, Organization and Functions, is hereby amended as follows:

Delete the functional statement for the Management Analysis and Services Office (CA59), Office of Program Services (CA5), and insert the following:

(1) Plans, coordinates, and provides CDC-wide administrative, technical, management, and information services in the following areas: policy development and consultation, studies and surveys, delegations of authorities, organizations and functions, information security, Privacy Act, confidentiality management, records management, printing procurement and reproduction, classroom and meeting management, forms design and management, publications distribution, mail services, public inquiries, reports and committee management, special events coordination; (2) develops and implements policies and procedures in these areas; (3) conducts management control reviews and coordinates IG/GAO audits; (4) maintains liaison with HHS, General Services Administration, the Government Printing Office, National Archives and Records Administration, and other Government and private agencies.

Delete the functional statement for the Committee Management and Program Panels Activity (CA592) and insert the following:

(1) Develops and manages, in conjunction with CDC's grants management requirements, a CDC-wide special emphasis panel that is the primary review mechanism for assuring scientific and programmatic review of applications for grant support; (2) coordinates committee management activities, including Federal advisory committees, for CDC; (3) plans and coordinates CDC special events.

Delete the functional statement for the Management Procedures Branch (CA594) and insert the following:

(1) Manages the CDC policy issuance system to include policy development, dissemination, and advisory services; interprets HHS and other directives and assesses their impact on CDC policy, and maintains the official CDC library of administrative management policy and procedures manuals; (2) directs the agency-wide confidentiality management function to process applications for approval to collect sensitive research data in accordance with special confidentiality authorities in Sections 301(d) and 308(d) of the Public Health Service Act; (3) coordinates IG/GAO audit activities; (4) provides consultation and assistance to CDC program officials and staff in complying with the requirements of the Privacy Act and accompanying guidelines and regulations; (5) provides forms management services, including development, coordination of clearances, and inventory management; (6) plans, develops, and implements policies and procedures in these areas, as appropriate.

Delete the functional statement for the Management Analysis Branch (CA597) and insert the following:

(1) Provides consultation and assistance to CDC program officials on the establishment, modification, or abolishment of organizational structures and functions; reviews and analyzes organizational changes; and develops documents for approval by appropriate CDC or HHS officials; (2) conducts management and operational studies for CDC to improve the effectiveness and efficiency of management and administrative systems techniques, policies, and organizational structures; (3) interprets, analyzes, and makes recommendations concerning delegations and redelegations of program and administrative authorities, and develops appropriate delegating documents; (4) develops and coordinates the implementation and conduct of CDC-wide information security programs; (5) conducts a CDC-wide records management program, including provision of technical assistance in the development and conduct of electronic records management activities; (6) plans, directs, and coordinates requirements of OMB Circulars A-76 and A-123 to conduct management review activities and to determine whether certain Agency functions might be more appropriately carried out through or by commercial sources; (7) plans, develops, and implements policies and procedures in these areas, as appropriate.

Delete the functional statement for the Management Services Branch (CA598) and insert the following:

(1) Plans and conducts a publications management program, including development, production, procurement, distribution, and storage of CDC publications; (2) plans, directs, coordinates, and implements CDC-wide information distribution services and mail and messenger services, including the establishment and maintenance of mailing lists; (3) maintains liaison with contract suppliers, HHS, the Government Printing Office, and other Government agencies on matters pertaining to printing, copy preparation, reproduction, and procurement of printing; (4) serves as the focal point for recommending policies and establishing procedures for matters pertaining to energy conservation and recycling; (5) receives and reviews requests received from the public for information and publications, and responds to the requests or forwards to the appropriate CDC program for action; (6) manages the CDC learning environment through classroom and meeting support for CDC's Atlanta campuses; (7) plans, develops, and implements policies and procedures in these areas, as appropriate.

Dated: December 18, 2000.
Jeffrey P. Koplan,
Director.

[FR Doc. 01-462 Filed 1-5-01; 8:45 am]

BILLING CODE 4160-18-M